DEPARTMENT OF TRANSPORTATION

Federal Aviation Administration

14 CFR Part 39

[Docket No. FAA-2024-2663; Project Identifier MCAI-2023-00200-R; Amendment 39-23036; AD 2025-10-02]

RIN 2120-AA64

Airworthiness Directives; Airbus Helicopters

AGENCY: Federal Aviation Administration (FAA), DOT.

ACTION: Final rule.

SUMMARY: The FAA is adopting a new airworthiness directive (AD) for certain Airbus Helicopters Model EC225LP helicopters. This AD was prompted by the identification of missing electrical bonding on a certain part-numbered additional and optional search light (search light). This AD requires installing an electrical bonding braid modification. These actions are specified in a European Union Aviation Safety Agency (EASA) AD, which is incorporated by reference. The FAA is issuing this AD to address the unsafe condition on these products.

DATES: This AD is effective July 8, 2025.

The Director of the Federal Register approved the incorporation by reference of a certain publication listed in this AD as of July 8, 2025.

ADDRESSES:

AD Docket: You may examine the AD docket at regulations.gov under Docket No. FAA-2024-2663; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Pkwy., Room 6N-321, Fort Worth, TX 76177. For information on the availability of this material at the FAA, call (817) 222-5110. It is also available at regulations.gov under Docket No. FAA-2024-2663.

FOR FURTHER INFORMATION CONTACT: Kurt Ladendorf, Aviation Safety Engineer, FAA, 1600 Stewart Avenue, Suite 410, Westbury, NY 11590; phone: (817) 222-5254; email: Kurt.D.Ladendorf@faa.gov.

SUPPLEMENTARY INFORMATION:

Background

The FAA issued a notice of proposed rulemaking (NPRM) to amend 14 CFR part 39 by adding an AD that would apply to certain Airbus Helicopters Model EC225LP helicopters. The NPRM published in the Federal Register on December 23, 2024 (89 FR 104465). The NPRM was prompted by EASA AD 2023-0030, dated February 2, 2023 (EASA AD 2023-0030) (also referred to as the MCAI), issued by EASA, which is the Technical Agent for the Member States of the European Union. The MCAI states missing electrical bonding was identified on a certain part-numbered search light installed on some Model EC 225 LP helicopters. The MCAI further states that the location where the search light is installed is an area that could get struck by lightning, which, in case of a lightning strike, could lead to potential total loss of electrical distribution, with loss of electrically supplied systems, and subsequent reduced control of the helicopter.

In the NPRM, the FAA proposed to require installing an electrical bonding braid modification and prohibit installing that part-numbered search light unless the modification is done. The FAA is issuing this AD to address the unsafe condition on these products.

You may examine the MCAI in the AD docket at regulations.gov under Docket No. FAA-2024-2663.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

EASA AD 2023-0030 requires installing an electrical bonding braid modification for a certain part-numbered search light under the sponson. EASA AD 2023-0030 also prohibits installing that part-numbered search light from being installed unless its requirements are met.

This material is reasonably available because the interested parties have access to it through their normal course of business or by the means identified in the ADDRESSES section.

Differences Between This AD and the MCAI

The MCAI allows a +10% tolerance to the calendar compliance time to install the electrical bonding braid modification, whereas this AD does not allow that tolerance. If the insulation resistance value is 8 or more ohms as a result of the continuity test that is specified in the material referenced in EASA AD 2023-0030, this AD requires accomplishing corrective action in accordance with a method approved by the FAA, EASA, or Airbus Helicopters' EASA Design Organization Approval, whereas the MCAI and the material referenced in the MCAI are not specific about the continuity test.

Costs of Compliance

The FAA estimates that this AD affects 9 helicopters of U.S. registry. Labor rates are estimated at $85 per work-hour. Based on these numbers, the FAA estimates the following costs to comply with this AD.

Installing an electrical bonding braid modification takes 14 work-hours and parts cost $16,370 for an estimated cost of $17,560 per helicopter and up to $158,040 for the U.S. fleet.

Performing a continuity test takes a minimal amount of time for a nominal cost. Depending on the results, corrective action could vary significantly from helicopter to helicopter. The FAA has no data to determine the costs to accomplish the corrective action.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-10-02 Airbus Helicopters: Amendment 39-23036; Docket No. FAA-2024-2663; Project Identifier MCAI-2023-00200-R.

(a) Effective Date

This airworthiness directive (AD) is effective July 8, 2025.

(b) Affected ADs

None.

(c) Applicability

This AD applies to Airbus Helicopters Model EC225LP helicopters, certificated in any category, as identified in European Union Aviation Safety Agency AD 2023-0030, dated February 2, 2023 (EASA AD 2023-0030).

(d) Subject

Joint Aircraft System Component (JASC) Code: 1420, electrical connectors; and 2497, electrical power system wiring.

(e) Unsafe Condition

This AD was prompted by the identification of missing electrical bonding on additional and optional search lights. The FAA is issuing this AD to prevent a lightning current evacuating to the aircraft structure. In the event of a lightning strike, the unsafe condition, if not addressed, could result in potential total loss of electrical distribution, with loss of electrically supplied systems, and subsequent reduced control of the helicopter.

(f) Compliance

Comply with this AD within the compliance times specified, unless already done.

(g) Requirements

Except as specified in paragraphs (h) and (i) of this AD: Comply with all required actions and compliance times specified in, and in accordance with, EASA AD 2023-0030.

Note 1 to paragraph (g): Appendix 4 of Airbus Helicopters Alert Service Bulletin No. EC225-33A018, dated December 15, 2023, which is referenced in EASA AD 2023-0030, identifies helicopter configurations (right-hand column of the table) by helicopter serial number (left-hand column of the table).

(h) Exceptions to EASA AD 2023-0030

(1) Where EASA AD 2023-0030 requires compliance in terms of flight hours, this AD requires using hours time-in-service.

(2) Where EASA AD 2023-0030 refers to its effective date, this AD requires using the effective date of this AD.

(3) Where Note 1 of EASA AD 2023-0030 specifies that a tolerance of +10% may be applied to the calendar compliance time specified in paragraph (1) of EASA AD 2023-0030, this AD does not allow that tolerance.

(4) Where the material referenced in EASA AD 2023-0030 specifies discarding parts, this AD requires removing those parts from service.

(5) This AD requires replacing text as specified in paragraphs (h)(5)(i) though (v) of this AD.

(i) Where the material referenced in EASA AD 2023-0030 specifies to “do the electrical bonding”, this AD requires replacing that text with “install the electrical bonding braid”.

(ii) Where the material referenced in EASA AD 2023-0030 specifies to “bond the labels `741VN' and `742VN' of the set of labels (8) as close as possible from the equipment (SECTION A-A and B-B)”, this AD requires replacing that text with “apply labels `741VN' and `742VN' of the set of labels (8) directly adjacent to the grounding point as depicted in Figure 6, Section A-A and Section B-B”.

(iii) Where the material referenced in EASA AD 2023-0030 specifies to “remove and keep” this AD requires replacing that text with “remove”.

(iv) Where the material referenced in EASA AD 2023-0030 specifies to “locate the hole (A) in accordance to the position”, this AD requires replacing that text with “determine the position of hole (A) in Figure 4, Detail B”.

(v) Where the material referenced in EASA AD 2023-0030 specifies to paint strip the hole on “the both face”, this AD requires replacing that text with “each side”.

(6) Where the material referenced in EASA AD 2023-0030 specifies to do a continuity test, if the insulation resistance value is 8 or more ohms as a result of the continuity test, this AD requires, before further flight, accomplishing corrective action in accordance with a method approved by the Manager, International Validation Branch, FAA; or EASA; or Airbus Helicopters' EASA Design Organization Approval (DOA). If approved by the DOA, the approval must include the DOA-authorized signature.

(7) This AD does not adopt the “Remarks” section of EASA AD 2023-0030.

(i) No Reporting Requirement

Although the material referenced in EASA AD 2023-0030 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD. Information may be emailed to: AMOC@faa.gov.

(2) Before using any approved AMOC, notify your appropriate principal inspector, or lacking a principal inspector, the manager of the local flight standards district office/certificate holding district office.

(k) Related Information

(1) For more information about this AD, contact Kurt Ladendorf, Aviation Safety Engineer, FAA, 1600 Stewart Avenue, Suite 410, Westbury, NY 11590; phone: (817) 222-5254; email: Kurt.D.Ladendorf@faa.gov.

(2) For Airbus Helicopters material identified in this AD that is not incorporated by reference, contact Airbus Helicopters, 2701 North Forum Drive, Grand Prairie, TX 75052; phone: (972) 641-0000 or (800) 232-0323; fax: (972) 641-3775; website: airbus.com/en/products-services/helicopters/hcare-services/airbusworld.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) European Union Aviation Safety Agency (EASA) AD 2023-0030, dated February 2, 2023.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on May 20, 2025.
Steven W. Thompson,
Acting Deputy Director, Compliance & Airworthiness Division, Aircraft Certification Service.

[FR Doc. 2025-10032 Filed 6-2-25; 8:45 am]

BILLING CODE 4910-13-P